FEDERAL COMMUNICATIONS COMMISSION

Sunshine Act Meeting; FCC To Hold Open Commission Meeting Thursday, July 2, 2009

June 25, 2009.

The Federal Communications Commission will hold an Open Meeting on the subjects listed below on Thursday, July 2, 2009, which is scheduled to commence at 10 a.m. in Room TW-C305, at 445 12th Street, SW., Washington, DC.

The Meeting also will include a presentation on the status of the Commission's process for developing a National Broadband Plan.

Item No. | Bureau | Subject
1 | Office of Engineering and Technology | Title: Amendment of the Commission's Rules to Provide Spectrum for the Operation of Medical Body Area Networks (ET Docket No. 08-59)
|  | Summary: The Commission will consider a Notice of Proposed Rulemaking to allocate spectrum and establish service and technical rules for the operation of Medical Body Area Networks to monitor patients' physiological data.
2 | Media | Title: Amendment of Service and Eligibility Rules for FM Broadcast Stations (MB Docket No. 07-172; RM-11338)
|  | Summary: The Commission will consider a Report and Order concerning changes in the FM translator rules to allow AM broadcast stations to rebroadcast their signals on eligible FM translator stations.
3 | Wireless Tele-Communications | Title: Amendment of Part 101 of the Commission's Rules to Accommodate 30 Megahertz Channels in the 6525-6875 MHz Band (RM-11417), et al.
|  | Summary: The Commission will consider a Notice of Proposed Rulemaking addressing whether to provide licensees with authority to operate on channels with bandwidths up to 30 megahertz in the Upper 6 GHz band and whether to extend conditional authority to two additional channel pairs in the 23 GHz band, as well as an Order addressing a related waiver request.

The meeting site is fully accessible to people using wheelchairs or other mobility aids. Sign language interpreters, open captioning, and assistive listening devices will be provided on site. Other reasonable accommodations for people with disabilities are available upon request. Include a description of the accommodation you will need. Also include a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
William F. Caton,
Acting Secretary.

[FR Doc. E9-15540 Filed 6-26-09; 4:15 pm]

BILLING CODE 6712-01-P